DEPARTMENT OF HEALTH AND HUMAN SERVICES

Centers for Medicare & Medicaid Services

42 CFR Parts 413 and 424

[CMS-1446-CN]

RIN 0938-AR65

Medicare Program; Prospective Payment System and Consolidated Billing for Skilled Nursing Facilities for FY 2014; Correction

AGENCY: Centers for Medicare & Medicaid Services (CMS), HHS.

ACTION: Final rule; correction.

SUMMARY: This document corrects technical errors that appeared in the final rule published in the August 6, 2013, Federal Register entitled “Medicare Program; Prospective Payment System and Consolidated Billing for Skilled Nursing Facilities for FY 2014.”

DATES: These corrections are effective October 1, 2013.

FOR FURTHER INFORMATION CONTACT: John Kane, (410) 786-0557.

SUPPLEMENTARY INFORMATION:

I. Background

In FR Doc. 2013-18776 of August 6, 2013 (78 FR 47936), there were a number of technical errors that are identified and corrected in the Correction of Errors section below. The provisions in this correction document are effective as if they had been included in FR Doc. 2013-18776 published August 6, 2013, hereinafter referred to as the FY 2014 SNF PPS final rule. Accordingly, the corrections are effective October 1, 2013.

II. Summary of Errors

A. Summary of Errors in the Preamble

On page 47958, in our discussion of consolidated billing, a citation to the Medicare Claims Processing Manual (CMS Publication 100-04) was inadvertently abbreviated incorrectly.

On page 47963, in our discussion of ensuring accuracy in grouping to rehabilitation RUG-IV categories, a citation to the Medicare Benefit Policy Manual (CMS Publication 100-02) was inadvertently abbreviated incorrectly.

B. Summary of Errors in the Addenda

On pages 47969 through 47975, in Table A: FY 2014 Wage Index for Urban Areas Based on CBSA Labor Market Areas, we inadvertently included several incorrect urban area titles for certain core-based statistical areas (CBSAs). As the result of receiving a corrected hospital cost report file, we also determined that we had inadvertently used incorrect wage data in calculating the wage index value for CBSA 30780 (Little Rock-North Little Rock-Conway AR), producing an incorrect wage index value for this CBSA.

III. Waiver of Proposed Rulemaking and Delayed Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

We find for good cause that it is unnecessary to undertake notice and comment rulemaking because this document merely provides technical corrections to the FY 2014 SNF PPS final rule in the preamble and addenda. We are not making substantive changes to our payment methodologies or policies, but rather, are simply implementing correctly the payment methodologies and policies that we previously proposed, received comment on, and subsequently finalized. This correction document is intended solely to ensure that the FY 2014 SNF PPS final rule accurately reflects these payment methodologies and policies. Therefore, we believe that undertaking further notice and comment rulemaking activity in connection with it would be unnecessary and contrary to the public interest.

Further, we believe a delayed effective date is unnecessary because this correction document merely corrects inadvertent technical errors. The corrections noted above do not make any substantive changes to the SNF PPS payment methodologies or policies. Moreover, we regard imposing a delay in the effective date as being contrary to the public interest. We believe that it is in the public interest for providers to receive appropriate SNF PPS payments in as timely a manner as possible and to ensure that the FY 2014 SNF PPS final rule accurately reflects our payment methodologies, payment rates, and policies. Therefore, we find good cause to waive notice and comment procedures, as well as the 30-day delay in effective date.

Correction of Errors

In FR Doc. 2013-18776 of August 6, 2013 (78 FR 47936), make the following corrections:

A. Corrections to the Preamble

1. On page 47958, third column, first paragraph, lines 30 and 31, the parenthetical citation “(see Pub. L. 100-04, ch. 6, § 20.4)” is corrected to read “(see Pub. 100-04, ch. 6, § 20.4)”.

2. On page 47963, first column, third full paragraph, lines 10 and 11, the parenthetical citation “(see Pub. L. 100-02, ch. 8, § 30.6)” is corrected to read “(see Pub. 100-02, ch. 8, sec. 30.6)”.

B. Corrections to the Addendum

1. On pages 47969 through 47975 in Table A—FY 2014 Wage Index for Urban Areas Based on CBSA Labor Market Areas,

a. The urban areas for the listed entries (CBSAs) are corrected to read as follows:

CBSA code | Urban area (constituent counties) | Wage index
12420 | Austin-Round Rock-San Marcos, TX | 0.9576
12540 | Bakersfield-Delano, CA | 1.1579
13644 | Bethesda-Rockville-Frederick, MD | 1.0319
16740 | Charlotte-Gastonia-Rock Hill, NC-SC | 0.9447
22744 | Fort Lauderdale-Pompano Beach-Deerfield, FL | 1.0378

b. The wage index for the listed entry (CBSA 30780) is corrected to read as follows:

CBSA code | Urban area (constituent counties) | Wage index
30780 | Little Rock-North Little Rock-Conway, AR | 0.8632

c. The urban areas for the listed entries (CBSAs) are corrected to read as follows:

CBSA code | Urban area (constituent counties) | Wage index
36740 | Orlando-Kissimmee-Sanford, FL | 0.9063
38900 | Portland-Vancouver-Hillsboro, OR-WA | 1.1766
41700 | San Antonio-New Braunfels, TX | 0.8911

(Catalog of Federal Domestic Assistance Program No. 93.773, Medicare—Hospital Insurance; and Program No. 93.774, Medicare—Supplementary Medical Insurance Program)

Dated: September 27, 2013.
Jennifer M. Cannistra,
Executive Secretary to the Department, Department of Health and Human Services.

[FR Doc. 2013-24080 Filed 9-30-13; 4:15 pm]

BILLING CODE 4120-01-P